DEPARTMENT OF VETERANS AFFAIRS

Illnesses Not Associated With Service in the Persian Gulf During the Persian Gulf War

AGENCY: Department of Veterans Affairs.

ACTION: Notice; clarification.

SUMMARY: In a notice published July 6, 2001 (66 FR 35702-35710), we stated in the SUMMARY paragraph, “As required by law, the Department of Veterans Affairs (VA) hereby gives notice that the Secretary of Veterans Affairs, under the authority granted by the Persian Gulf War Veterans Act of 1998, Pub. L. 105-277, 112 Stat. 2681-742 through 2681-749 (codified at 38 U.S.C. 1118), and the Veterans Programs Enhancement Act of 1998, Pub. L. 105-368, 112 Stat. 3315, has determined that there is no basis to establish a presumption of service connection for any disease based on service in the Persian Gulf during the Persian Gulf War.”

The purpose of this notice is to clarify that the September 7, 2000, National Academy of Sciences (NAS) report entitled “Gulf War and Health, Volume 1. Depleted Uranium, Sarin, Pyridostigmine Bromide, Vaccines” covered only those items. This notice also is to clarify that VA's July 6, 2001, notice was intended to convey to the public that the Secretary of Veterans Affairs, under the relevant statutory authorities, had determined only that, at that time, there was no basis for establishing a presumption of service connection for any illness suffered by Gulf War veterans based on exposure to depleted uranium, sarin, pyridostigmine bromide, and certain vaccines.

FOR FURTHER INFORMATION CONTACT: John Bisset, Jr., Consultant or Bill Russo, Attorney-Advisor, Compensation and Pension Service, Regulations Staff, Veterans Benefits Administration, 810 Vermont Avenue, NW, Washington, DC 20420, telephone (202) 273-7213 and (202) 273-7211, respectively.

Anthony J. Principi,
Secretary of Veterans Affairs.

[FR Doc. 01-29209 Filed 11-21-01; 8:45 am]

BILLING CODE 8320-01-P